NUCLEAR REGULATORY COMMISSION

[Docket ID NRC-2008-0631]

Biweekly Notice Applications and Amendments to Facility Operating Licenses Involving No Significant Hazards Considerations; Correction

AGENCY: Nuclear Regulatory Commission.

ACTION: Notice of Issuance; Correction.

SUMMARY: This document corrects a notice appearing in the Federal Register on December 2, 2008 (73 FR 73351), that lists all notices of amendments issued, or proposed to be issued from November 6, 2008, to November 19, 2008. This action is necessary to correct an erroneous amendment number.

FOR FURTHER INFORMATION CONTACT: Peter S. Tam, Office of Nuclear Reactor Regulation, U.S. Nuclear Regulatory Commission, Washington, DC 20555-0001; telephone (301) 415-1451, e-mail: Peter.Tam@nrc.gov.

SUPPLEMENTARY INFORMATION: On page 73356, in the first column, the seventh line from the top, “Amendment No.: 171” is corrected to read “Amendment No.: 271”.

Dated in Rockville, Maryland, this 16th day of December 2008.
For the Nuclear Regulatory Commission.
Peter S. Tam,
Senior Project Manager, Plant Licensing Branch III-1, Division of Operating Reactor Licensing, Office of Nuclear Reactor Regulation.

[FR Doc. E8-30943 Filed 12-29-08; 8:45 am]

BILLING CODE 7590-01-P